DEPARTMENT OF JUSTICE

Notice of Lodging of Proposed Amended Consent Decree Under the Clean Air Act

On June 15, 2016, the Department of Justice lodged a proposed Amended Consent Decree with the United States District Court for the Eastern District of Michigan in the lawsuit entitled United States v. City of Wyandotte, Civil Action No. 11-cv-12181.

In 2011, the United States entered into a Consent Decree with the City of Wyandotte (“Wyandotte”) to resolve allegations under the Clean Air Act that Wyandotte's coal-fired electric generating Units 7 and 8 violated the emissions limits set forth in Wyandotte's Title V permit, its Prevention of Significant Deterioration permit, the New Source Performance Standards, and the federally enforceable Michigan State Implementation Plan. After entry of the Consent Decree, Wyandotte violated several provisions of the original Consent Decree, including failing to submit required reports. Additionally, Wyandotte made some operational changes. Under the proposed Amended Consent Decree, Wyandotte will pay $425,000 in stipulated penalties, restrict Unit 7 to burning only natural gas, and retire Unit 8.

The publication of this notice opens a period for public comment on the Amended Consent Decree. Comments should be addressed to the Assistant Attorney General, Environment and Natural Resources Division, and should refer to United States v. City of Wyandotte, D.J. Ref. No. 90-5-2-1-09346. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department Web site: https://www.justice.gov/enrd/consent-decrees. We will provide a paper copy of the Amended Consent Decree upon written request and payment of reproduction costs. Please mail your request and payment to:

Consent Decree Library, U.S. DOJ—ENRD, P.O. Box 7611, Washington, DC 20044-7611.

Please enclose a check or money order for $14.50 (25 cents per page reproduction cost) payable to the United States Treasury.

Randall M. Stone,
Acting Assistant Section Chief, Environmental Enforcement Section, Environment and Natural Resources Division.

[FR Doc. 2016-15022 Filed 6-23-16; 8:45 am]

BILLING CODE 4410-15-P